NUCLEAR REGULATORY COMMISSION

[Docket No. 040-08838]

Notice of Consideration of Amendment Request for U.S. Army Jefferson Proving Ground Site in Madison, IN and Opportunity for a Hearing

The U.S. Nuclear Regulatory Commission (NRC) is considering issuance of a license amendment to Materials License No. SUB-1435 issued to the U.S. Army (licensee) at the Jefferson Proving Ground (JPG) site in Madison, Indiana. The licensee requested, in a letter dated February 15, 2000, to: (1) Authorize transfer of licensing responsibilities for the Jefferson Proving Ground (JPG) site from the U.S. Army Test and Evaluation Command (TECOM) to the U.S. Army Soldier and Biological Chemical Command (SBCCOM), (2) designate Ms. Joyce E. Kuykendall as the Radiation Safety Officer (RSO) for the site, and (3) include the revised JPG Security Plan in the license.

From 1941 to 1994, the licensee conducted ordnance testing on the JPG site, and fired more than 24 million rounds of conventional explosive. From 1984 to 1994, the licensee conducted accuracy testing of depleted uranium (DU) tank penetrator rounds at the site. An NRC license was issued to authorize the U.S. Army to use, store, and perform testing of DU munitions at JPG. The DU penetrator rounds vary in size but can be generally described as rods comprised of a DU titanium alloy with a diameter of approximately 2.5 centimeters (cm) (1 inch) and a length as much as 61 cm (2 feet). The DU munitions testing contaminated approximately 5.1×10⁶ square meters (m²) (1260 acres) of the site with an estimated 7×10⁴ kilograms (1.5×10⁵ pounds) of DU. In accordance with the Defense Authorization Amendments and Base Realignment and Closure Act of 1988 (Public Law 100-526), the licensee was required to close the JPG base on September 30, 1995. Currently, the licensed material is kept onsite in the restricted area known as the “Depleted Uranium Impact Area.” This area is located north of the firing line, and consists of approximately 12×10⁶ m² (3,000 acres).

An NRC administrative review, documented in a letter to the licensee dated March 15, 2000, found the license amendment application acceptable to begin a technical review. The application requested to: (1) Authorize transfer of licensing responsibilities for the JPG site from TECOM to SBCCOM, (2) designate Ms. Joyce E. Kuykendall as the RSO for the site, and (3) include the revised JPG Security Plan in the license. The NRC Decommissioning Branch is currently changing its policy regarding listing the RSO by name in the license. Instead, the license will include the qualifications that an RSO must meet for the respective site. NRC staff plans to revise the JPG license condition on the RSO accordingly.

If the NRC approves the February 15, 2000, request, the approval will be documented in an amendment to NRC License No. SUB-1435. However, before approving the proposed amendment, the NRC will need to make the findings required by the Atomic Energy Act of 1954, as amended, and NRC's regulations. These findings will be documented in a Safety Evaluation Report and an Environmental Assessment or a Categorical Exclusion.

NRC hereby provides notice that this is a proceeding on an application for an amendment of a license falling within the scope of Subpart L, “Informal Hearing Procedures for Adjudication in Materials Licensing Proceedings,” of NRC's rules of practice for domestic licensing proceedings in 10 CFR Part 2. Pursuant to § 2.1205(a), any person whose interest may be affected by this proceeding may file a request for a hearing in accordance with § 2.1205(d). A request for a hearing must be filed within thirty (30) days of the date of publication of this Federal Register notice.

The request for a hearing must be filed with the Office of the Secretary either:

1. By delivery to Secretary, U.S. Nuclear Regulatory Commission, One White Flint North, 11555 Rockville Pike, Rockville, MD 20852-2738, between 7:45 am and 4:15 pm Federal workdays; or

2. By mail, telegram, or facsimile addressed to the Secretary, U.S. Nuclear Regulatory Commission, Washington, DC 20555-0001. Attention: Rulemakings and Adjudications Staff.

In accordance with 10 CFR 2.1205(f), each request for a hearing must also be served, by delivering it personally or by mail, to:

1. The applicant, U.S. Army Soldier and Biological Chemical Command, 5183 Black Hawk Road, Aberdeen Proving Ground, MD 21010-5424, Attention: Mr. John M. Ferriter, and;

2. The NRC staff, by delivery to the Executive Director for Operations, U.S. Nuclear Regulatory Commission, One White Flint North, 11555 Rockville Pike, Rockville, MD 20852-2738, between 7:45 am and 4:15 pm Federal workdays, or by mail, addressed to the Executive Director for Operations, U.S. Nuclear Regulatory Commission, Washington, DC 20555-0001.

In addition to meeting other applicable requirements of 10 CFR Part 2 of NRC's regulations, a request for a hearing filed by a person other than an applicant must describe in detail:

1. The interest of the requester in the proceeding;

2. How that interest may be affected by the results of the proceeding, including the reasons why the requester should be permitted a hearing, with particular reference to the factors set out in § 2.1205(h):

3. The requester's areas of concern about the licensing activity that is the subject matter of the proceeding; and

4. The circumstance establishing that the request for a hearing is timely in accordance with § 2.1205(d).

FOR FURTHER INFORMATION CONTACT: The application for license amendment and supporting documentation are available for inspection at NRC's Public Electronic Reading Room on the NRC web site at http://www.nrc.gov/NRC/ADAMS/index.html. Questions with respect to this action should be referred to Ms. Sherry W. Lewis, Decommissioning Branch, Division of Waste Management, Office of Nuclear Material Safety and Safeguards, U.S. Nuclear Regulatory Commission, Washington, DC 20555-0001. Telephone: (301) 415-6619. Fax: (301) 415-5398.

Dated at Rockville, Maryland, this 3rd day of April 2000.
For the Nuclear Regulatory Commission.
Robert A. Nelson,
Acting Chief, Decommissioning Branch, Division of Waste Management, Office of Nuclear Material Safety and Safeguards.

[FR Doc. 00-8630 Filed 4-6-00; 8:45 am]

BILLING CODE 7590-01-P